DEPARTMENT OF COMMERCE

National Institute of Standards and Technology

RIN 0693-ZA81

[Docket No: 080411556-8904-02]

Construction Grant Program Extension of Due Date for Proposals

AGENCY: National Institute of Standards and Technology (NIST), United States Department of Commerce.

ACTION: Notice.

SUMMARY: Due to technical difficulties, NIST is extending the deadline for proposal submission for its Construction Grant Program competition to 3 p.m. Eastern Time, Friday, August 1, 2008. NIST will accept only paper submissions during the extended time period.

DATES: Paper submissions must be received no later than 3 p.m. Eastern Time, Friday, August 1, 2008. Review, selection, and grant award processing is expected to be completed by the middle of November 2008.

ADDRESSES: Paper submissions must be sent to the National Institute of Standards and Technology, 100 Bureau Drive, Stop 4701, Gaithersburg, MD 20899-4701.

FOR FURTHER INFORMATION CONTACT: Barbara Lambis via e-mail at barbara.lambis@nist.gov or telephone (301) 975-4447.

SUPPLEMENTARY INFORMATION: On May 27, 2008, the National Institute of Standards and Technology (NIST) announced that it was soliciting proposals under a competitive Construction Grant Program for research buildings (73 FR 30380). The due date for submission of all proposals was 3 p.m. Eastern Time, Monday, July 21, 2008. Due to technical difficulties some applicants were unable to submit their proposals electronically on Monday, July 21, 2008. In order to provide all interested parties the opportunity to submit a proposal for the Construction Grant Program, NIST is extending the solicitation period until 3 p.m. Eastern Time, Friday, August 1, 2008. Electronic proposals received between 3 p.m. and 11:59 p.m. Eastern Time on July 21, 2008 will be deemed timely and given full consideration. Paper proposals received between 3 p.m., Monday, July 21, 2008 and the publication date of this notice will be deemed timely and given full consideration. During the extended solicitation period, NIST will accept only paper submissions. Applicants who attempted to submit electronic applications but were unsuccessful are encouraged to resubmit a paper application. Paper submissions must be received by 3 p.m. Eastern Time, Friday, August 1, 2008. Please note that for paper submissions the Program requires one original and two (2) copies of the proposal.

The application submission deadline applies to any mode of paper proposal delivery, including hand-delivery, courier, and express mailing, but not facsimile. Proposals submitted via facsimile will not be accepted. NIST will not make any allowances for late submissions. All NIST Construction Grant Program competition requirements and information announced in the May 27, 2008, Federal Register notice apply to proposals submitted during the extended time period with the exception of the review, selection, and grant award processing time that is now expected to be completed by the middle of November 2008.

Executive Order 12372 (Intergovernmental Review of Federal Programs). Proposals under this program are not subject to Executive Order 12372.

Executive Order 13132 (Federalism). This notice does not contain policies with Federalism implications as defined in Executive Order 13132.

Executive Order 12866 (Regulatory Planning and Review). This notice is not a significant regulatory action under Sections 3(f)(3) and 3(f)(4) of Executive Order 12866, as it does not materially alter the budgetary impact of a grant program and does not raise novel policy issues. This notice is not an “economically significant” regulatory action under Section 3(f)(1) of the Executive Order, as it does not have an effect on the economy of $100 million or more in any one year, and it does not have a material adverse effect on the economy, a sector of the economy, productivity, competition, jobs, the environment, public health or safety, or State, local, or tribal governments or communities.

Administrative Procedure Act and Regulatory Flexibility Act. Prior notice and comment are not required under 5 U.S.C. 553, or any other law, for rules relating to public property, loans, grants, benefits or contracts (5 U.S.C. 553(a)). Because prior notice and an opportunity for public comment are not required pursuant to 5 U.S.C. 553 or any other law, the analytical requirements of the Regulatory Flexibility Act (5 U.S.C. et. seq.) are inapplicable. Therefore, a regulatory flexibility analysis is not required and has not been prepared.

Dated: July 25, 2008.
James M. Turner,
Deputy Director.

[FR Doc. 08-1475 Filed 7-25-08; 2:34 pm]

BILLING CODE 3510-13-P